OFFICE OF PERSONNEL MANAGEMENT

[OMB Control No. 3206-0168; Form RI 20-80]

Proposed Information Collection; Request for Comments on an Existing Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for comments on an existing information collection. This information collection, “Alternative Annuity Election” (OMB Control No. 3206-0168; form RI 20-80), is used for individuals who are eligible to elect whether to receive a reduced annuity and a lump-sum payment equal to their retirement contributions (alternative form of annuity) or an unreduced annuity and no lump sum.

Comments are particularly invited on whether this collection of information is necessary for the proper performance of functions of the Office of Personnel Management, and whether it will have practical utility; whether our estimate of the public burden of this collection of information is accurate, and based on valid assumptions and methodology; and ways in which we can minimize the burden of the collection of information on those who are to respond through the use of appropriate technological collection techniques or other forms of information technology.

Approximately 200 RI 20-80 forms are completed annually. The form takes approximately 20 minutes to complete. The annual estimated burden is 67 hours.

For copies of this proposal, contact Margaret A. Miller by telephone at (202) 606-2699, by FAX (202) 418-3251, or by e-mail to Margaret.Miller@opm.gov. Please include a mailing address with your request.

DATES: Comments on this proposal should be received within 60 calendar days of the date of this publication.

ADDRESSES: Send or deliver comments to Ronald W. Melton, Deputy Assistant Director, Retirement Services Program, U.S. Office of Personnel Management, 1900 E Street, NW., Room 3305, Washington, DC 20415-3500.

For Information Regarding Administrative Coordination Contact: Cyrus S. Benson, Team Leader, Publications Team, RIS Support Services/Support Group, U.S. Office of Personnel Management, 1900 E Street, NW.,—Room 4H28, Washington, DC 20415, (202) 606-0623.

U.S. Office of Personnel Management.
Howard Weizmann,
Deputy Director.

[FR Doc. E8-22112 Filed 9-19-08; 8:45 am]

BILLING CODE 6325-38-P